OFFICE OF PERSONNEL MANAGEMENT

The Presidential Advisory Committee on Expanding Training Opportunities

AGENCY: Office of Personnel Management.

ACTION: Notice of meeting.

Time and Date: 9:00 a.m., Tuesday, August 1, 2000.

Place: White House Conference Center, Truman Room, 725 Jackson Place, Washington, DC. The Truman Room is on the 3rd floor.

Status: This meeting will be open to the public. Seating is limited and will be available on a first-come, first-served basis. Individuals with special access needs wishing to attend should contact OPM through the information shown below to obtain appropriate accommodations. Any member of the public wishing further information about the meeting or wishing to submit oral or written comments should contact the Designated Federal Official through the information shown below. Requests for oral comments must be in writing and received no later than 5:00 p.m. Eastern Daylight Savings Time on Tuesday, July 25, 2000. Each individual or group making an oral presentation will be limited in time based on the agenda and the number of people requesting to speak. Remarks may be submitted for the record. Written comments (30 copies) which are received in enough time will be shared with the Committee prior to the meeting. Comments received close to the meeting date will be shared with the Committee at the meeting.

Matters To Be Considered: Executive Order 13111, Using Technology to Improve Training Opportunities for Federal Government Employees, was issued by the President on January 12, 1999, and established the Presidential Advisory Committee on Expanding Training Opportunities. At its initial meeting, the Committee will review and discuss administrative issues, background matters, tasks, and plans of action. Committee functions include: (1) Providing an independent assessment of (a) progress made by the Federal Government in its use and integration of technology in training programs; (b) how Federal Government programs, initiatives, and policies can encourage or accelerate training technology to provide more accessible, timely, and cost-effective training opportunities for all Americans; (c) mechanisms for the Federal Government to encourage private sector investment in the development of high quality instructional software and wider deployment and use of technology-mediated instruction so that all Americans may take advantage of the opportunities provided by learning technology; and (d) the appropriate Federal Government role in research and development for learning technologies and their applications in order to develop high quality training and education opportunities for all Americans; and (2) an analysis of options for helping adult Americans finance the training and post-secondary education needed to upgrade skills and gain new knowledge.

FOR FURTHER INFORMATION CONTACT: Please contact Barbara Swanson, Designated Federal Officer for the Presidential Advisory Committee on Expanding Training Opportunities, at OPM, 1900 E Street NW., Washington, DC 20415; at telephone (202) 606-2721; or fax (202) 606-5231.

Office of Personnel Management.
Janice R. Lachance,
Director.

[FR Doc. 00-17460 Filed 7-10-00; 8:45 am]

BILLING CODE 6325-01-P